COMMITTEE FOR PURCHASE FROM PEOPLE WHO ARE BLIND OR SEVERELY DISABLED

Procurement List; Proposed Additions

AGENCY: Committee for Purchase from People Who Are Blind or Severely Disabled.

ACTION: Proposed additions to Procurement List.

SUMMARY: The Committee is proposing to add to the Procurement List services to be furnished by nonprofit agencies employing persons who are blind or have other severe disabilities.

Comments Must be Received On or Before: February 9, 2003.

ADDRESSES: Committee for Purchase From People Who Are Blind or Severely Disabled, Jefferson Plaza 2, Suite 10800, 1421 Jefferson Davis Highway, Arlington, Virginia 22202-3259.

FOR FURTHER INFORMATION CONTACT: Sheryl D. Kennerly, (703) 603-7740.

SUPPLEMENTARY INFORMATION: This notice is published pursuant to 41 U.S.C 47(a) (2) and 41 CFR 51-2.3. Its purpose is to provide interested persons an opportunity to submit comments on the possible impact of the proposed actions.

If the Committee approves the proposed additions, the entities of the Federal Government identified in the notice for each service will be required to procure the services listed below from nonprofit agencies employing persons who are blind or have other severe disabilities. I certify that the following action will not have a significant impact on a substantial number of small entities. The major factors considered for this certification were:

1. If approved, the action will not result in any additional reporting, recordkeeping or other compliance requirements for small entities other than the small organizations that will furnish the services to the Government.

2. If approved, the action will result in authorizing small entities to furnish the services to the Government.

3. There are no known regulatory alternatives which would accomplish the objectives of the Javits-Wagner-O'Day Act (41 U.S.C. 46-48c) in connection with the services proposed for addition to the Procurement List. Comments on this certification are invited.

Commenters should identify the statement(s) underlying the certification on which they are providing additional information.

The following services are proposed for addition to Procurement List for production by the nonprofit agencies listed:

Services

Service Type/Location: Base Supply Center, Oceana Naval Air Station, Virginia Beach, Virginia.

NPA: Virginia Industries for the Blind, Charlottesville, Virginia.

Contract Activity: Fleet and Industries Supply Center, Norfolk, Virginia.

Service Type/Location: Grounds Maintenance, Naval & Marine Corps Reserve Center-Sacramento, Sacramento, California.

NPA: Easter Seal Society of Superior California, Sacramento, California.

Contract Activity: Naval Facilities Engineering Command, Alameda, California.

Service Type/Location: Janitorial/Custodial, U.S. Property and Fiscal Office Offices, Building 01, U.S. Property and Fiscal Warehouse, Building 02, Combined Support Maintenance Shop, Building 04.

NPA: Challenge Unlimited, Inc., Alton, Illinois.

Contract Activity: Illinois Air National Guard, Springfield, Illinois.

Service Type/Location: Janitorial/Custodial, U.S. Army Reserve Center, Cincinnati, Ohio.

NPA: CRI, Inc., Cincinnati, Ohio.

Contract Activity: HQ, 88th Regional Support Command, Fort Snelling, Minnesota.

Service Type/Location: Janitorial/Custodial, U.S. Coast Guard Cutter Aspen, Yerba Buena Island, San Francisco, California.

NPA: Toolworks, Inc., San Francisco, California.

Contract Activity: U.S. Coast Guard Integrated Support Command, Alameda, California.

Service Type/Location: Janitorial/Custodial, USCG, Sandy Hook Detachment, Highlands, New Jersey.

NPA: Monmouth Center for Vocational Rehabilitation, Eatontown, NJ.

Contract Activity: USCG Activities New York, Staten Island, New York.

Service Type/Location: Janitorial/Custodial, VA Medical Center—1st Floor, Indianapolis, Indiana.

NPA: GW Commercial Services, Inc., Indianapolis, Indiana.

Contract Activity: VA Medical Center, Indianapolis, Indiana.

Sheryl D. Kennerly,
Director, Information Management.

[FR Doc. 03-504 Filed 1-9-03; 8:45 am]

BILLING CODE 6353-01-P